NUCLEAR REGULATORY COMMISSION

[Docket Nos. 50-309, 72-30, and 72-1015; NRC-2024-0184]

Maine Yankee Atomic Power Company; Independent Spent Fuel Storage Installation; Exemption; Safety Evaluation and Environmental Assessment With Finding of No Significant Impact

AGENCY: Nuclear Regulatory Commission.

ACTION: Notice; issuance.

SUMMARY: The U.S. Nuclear Regulatory Commission (NRC) is issuing three exemptions requested by Maine Yankee Atomic Power Company (Maine Yankee). The requested exemptions are from NRC regulations that require compliance with the terms, conditions, and specifications of Certificate of Compliance (CoC) No. 1015 for the NAC-UMS® Universal Storage System at Maine Yankee's Independent Spent Fuel Storage Installation (ISFSI). Maine Yankee currently stores sixty NAC-UMS® Systems under Amendment No. 6 to CoC No. 1015. In order to adopt Amendment No. 9 to CoC No. 1015, Maine Yankee is requesting the continuation of three previously approved exemptions.

DATES: The environmental assessment (EA) and finding of no significant impact (FONSI) referenced in this document are available on February 5, 2025. The exemptions take effect on February 5, 2025.

ADDRESSES: Please refer to Docket ID NRC-2024-0184 when contacting the NRC about the availability of information regarding this document. You may obtain publicly available information related to this document using any of the following methods:

• Federal Rulemaking Website: Go to https://www.regulations.gov and search for Docket ID NRC-2024-0184. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Kristina Banovac, Office of Nuclear Material Safety and Safeguards, U.S. Nuclear Regulatory Commission, Washington, DC 20555-0001; telephone: 301-415-7116; email: Kristina.Banovac@nrc.gov.

SUPPLEMENTARY INFORMATION:

I. Background

Maine Yankee is a general licensee under part 72 of title 10 of the Code of Federal Regulations (CFR), “Licensing Requirements for the Independent Storage of Spent Nuclear Fuel, High-Level Radioactive Waste, and Reactor-Related Greater Than Class C Waste.” Maine Yankee stores spent nuclear fuel in accordance with the requirements of CoC No. 1015 for the NAC-UMS® System. Section 72.210, “General license issued,” establishes a general license to store spent nuclear fuel in an ISFSI at reactor sites licensed under 10 CFR part 50, “Domestic Licensing of Production and Utilization Facilities”; Maine Yankee holds Facility Operating License No. DPR-36 under 10 CFR part 50. Section 72.212, “Conditions of general license issued under § 72.210,” provides the conditions for use of a general license. Paragraph 72.212(a)(2) limits the storage of spent fuel to the approved casks listed in 10 CFR 72.214. Casks are approved for storage under the conditions specified in the respective CoCs. The NRC approved the use of the NAC-UMS® System by issuing CoC No. 1015, effective November 20, 2000. The NRC subsequently issued Amendment No. 9 to CoC No. 1015, effective August 29, 2022. Maine Yankee plans to adopt Amendment No. 9 to CoC No. 1015 as part of its work to adopt the renewed CoC No. 1015. NRC regulations require users to comply with the terms and conditions of the CoC including, but not limited to, the associated technical specifications. The requested exemptions would allow Maine Yankee to deviate from certain requirements of the NAC-UMS® System CoC No. 1015, Amendment No. 9, as discussed in this document.

II. Request/Action

Maine Yankee is requesting the continuation of three exemptions from the terms and conditions of Amendment No. 9 to CoC No. 1015 that were previously approved for Amendment No. 6 to CoC No. 1015. Maine Yankee plans to adopt Amendment No. 9 to CoC No. 1015 as part of its work to adopt the renewed CoC No. 1015. Maine Yankee submitted its request by letter dated March 28, 2024, supplemented by email dated October 30, 2024. Maine Yankee requested specific exemptions from the requirements in 10 CFR 72.212(a)(2), 72.212(b)(3), 72.212(b)(5)(i), 72.212(b)(11), and 72.214, with regard to certain terms and conditions of Appendices A and B to the technical specifications of Amendment No. 9 to CoC No. 1015 detailed as follows.

The three requested exemptions mirror previously approved exemptions to Amendment No. 6 to CoC No. 1015; specifically:

1. Appendix A, Section A.3.1.4, “Canister Maximum Time in Transfer Cask.” This exemption is from the requirement to comply with the 25-day requirement in Limiting Condition for Operation 3.1.4 for canister, NAC-UMS-TSC-790-016.

2. Appendix A, Section A.5.1, “Training Program.” This exemption is from the requirement to develop a systematic approach to training that includes comprehensive instructions for the operation and maintenance of the ISFSI, except for the NAC-UMS® System.

3. Appendix B, Section B.3.4.2.6. This exemption is from the requirement to maintain a coefficient of friction on the ISFSI pad surface of at least 0.5.

Originally, Maine Yankee requested the NRC also approve a fourth exemption regarding annual effluent reporting that was approved earlier under Amendment No. 6 of CoC No. 1015. However, Maine Yankee clarified in its October 30, 2024, email supplement that the exemption regarding the annual effluent report is no longer needed. Amendment No. 2 to CoC No. 1015 contained an explicit requirement in Appendix A, Section A.5.5.c. to submit an annual effluent report. This explicit requirement was removed from the CoC in Amendment No. 3 and is also not included in Amendment No. 9. Therefore, this exemption is not necessary for use of Amendment No. 9 to CoC No. 1015.

Maine Yankee provided the following basis for the requested continuation of the three exemptions. It stated that continuation of the exemptions would not result in any impact to the safe storage of the spent fuel at the ISFSI and will not increase the probability or consequences of an accident. No new accident precursors are created. No changes are being made in the types or quantities of any radiological effluent that may be released off site. There is no increase in occupational or public radiation exposure. Therefore, there is no radiological environmental impact associated with the continuation of the exemptions. Additionally, the continuation of the exemptions would not involve any construction or other ground disturbing activities, would not change the footprint of the existing ISFSI, and would have no other significant non-radiological impacts. The ISFSI is located on previously disturbed land, thus, the proposed continuation of the exemptions does not have the potential to create any significant impact on aquatic or terrestrial habitat in the vicinity of the ISFSI, or to threatened, endangered, or protected species. In addition, the proposed continuation of the exemptions does not have the potential to cause effects on historic or cultural properties, assuming such properties are present at the site of the Maine Yankee ISFSI. The NRC previously evaluated the impacts associated with Amendment No. 9 to CoC No. 1015 prior to issuance of the amendment. Thus, its adoption by Maine Yankee will not represent any additional radiological considerations.

III. Discussion

A. Safety Evaluation

Pursuant to 10 CFR 72.7, “Specific exemptions,” the Commission may, upon application by any interested person or upon its own initiative, grant such exemptions from the requirements of the regulations of 10 CFR part 72 as it determines are authorized by law and will not endanger life or property or the common defense and security and are otherwise in the public interest.

Authorized by Law

The requested exemptions would allow the licensee to depart from certain requirements of CoC No. 1015, Amendment No. 9. Section 72.7 allows the NRC to grant exemptions from the requirements of 10 CFR part 72. Issuance of these exemptions are consistent with the Atomic Energy Act of 1954, as amended, and is not inconsistent with NRC regulations or other applicable laws. Therefore, the NRC has concluded that the exemptions are authorized by law.

Will Not Endanger Life or Property or the Common Defense and Security

The requested exemptions are the same exemptions as have been previously reviewed and approved by the NRC as discussed in this document. The NRC verified that there is no change in conditions under which the exemptions were previously approved. Therefore, the NRC has concluded that the exemptions will not endanger life or property, or the common defense and security.

Otherwise in the Public Interest

The requested exemptions are the same exemptions as have been previously reviewed and approved by the NRC on multiple prior occasions as the licensee has sought, over time, to use new amendments to CoC No. 1015. Continuing to apply the exemptions would provide for consistent and efficient regulation of the NAC-UMS® System casks at the Maine Yankee ISFSI. Further, the alternative of denying the exemption requests would impose an administrative burden on Maine Yankee and the NRC that would not provide a significant safety benefit. Therefore, the NRC has concluded that the exemptions are in the public interest.

Review of the Requested Exemption

The NRC reviewed the requested exemptions to verify that there were no differences from the previously approved exemptions. There are no changes in Amendment No. 9 to CoC No. 1015 that affect the terms and conditions from which Maine Yankee is requesting the exemptions. These terms and conditions are identical to the equivalent sections in Amendment No. 6. Each of the exemptions are discussed in this document.

1. Appendix A, Section A.3.1.4, “Canister Maximum Time in Transfer Cask.” This exemption is from the requirement to comply with the 25-day requirement in Limiting Condition for Operation 3.1.4 for canister, NAC-UMS-TSC-790-016. The exemption was previously approved on multiple occasions. The exemption was originally approved by letter dated July 14, 2010, with the environmental assessment noticed in the Federal Register on June 15, 2010. This exemption was approved again when the licensee sought to use a different amendment of CoC No. 1015, by letter dated July 5, 2019; the environmental assessment was noticed, and the exemption became effective upon publication, in the Federal Register on July 10, 2019.

Maine Yankee originally requested this exemption when it sought to use a different amendment of the CoC, Amendment No. 5, and it evaluated its stored canisters to determine whether they could conform to this amendment. Maine Yankee determined that one canister (originally loaded and operated under Amendment No. 2) did not comply with Limiting Condition for Operation 3.1.4 of Amendment No. 5. The NRC previously determined, as discussed in the July 14, 2010, exemption, that the affected storage canister was in full compliance with Amendment No. 2, its stored spent fuel was maintained in a safe condition during the time the canister was in the transfer cask, and the transfer of the loaded canister was completed in a safe manner to ensure the transfer cask was not used as a long-term storage device. The NRC's environmental assessment of this exemption is discussed in the Environmental Assessment section in this document.

2. Appendix A, Section A.5.1, “Training Program.” This exemption is from the requirement to develop a systematic approach to training that includes comprehensive instructions for the operation and maintenance of the ISFSI, except for the NAC-UMS® System. This exemption was previously approved on multiple occasions. The exemption was originally approved by letter dated January 4, 2005, with the environmental assessment noticed in the Federal Register on January 4, 2005. The exemption was approved again when the licensee sought to use a different amendment of CoC No. 1015, by letter dated July 14, 2010, with the environmental assessment noticed in the Federal Register on June 15, 2010. This exemption was approved a third time when, again, the licensee sought to use a different amendment of CoC No. 1015, by letter dated July 5, 2019; the exemption became effective upon publication in the Federal Register on July 10, 2019.

This exemption would relieve Maine Yankee from the requirements to develop training modules under its systematic approach to training that include comprehensive instructions for the operation and maintenance of the ISFSI. The NRC previously determined, as discussed in the Federal Register notice dated January 4, 2005, that Section A.5.1, “Training Program,” would impose regulatory obligations with associated costs that do not provide a commensurate increase in safety. This exemption would allow Maine Yankee to have the training program limited to the NAC-UMS® System. This exemption is categorically excluded from further environmental review in accordance with 10 CFR 51.22(c)(25)(i-v) and (vi)(E), as discussed in the Categorical Exclusion section of this document.

3. Appendix B, Section B.3.4.2.6. This exemption is from the requirement to maintain a coefficient of friction on the ISFSI pad surface of at least 0.5. This exemption was previously approved on multiple occasions. The exemption was originally approved by letter dated February 1, 2004, with the environmental assessment noticed in the Federal Register on January 30, 2004. The exemption was then approved again when the licensee sought to use a different amendment of CoC No. 1015, by letter dated July 14, 2010, with the environmental assessment noticed in the Federal Register on June 15, 2010. This exemption was then approved again when the licensee sought use of a different amendment of CoC No. 1015, by letter dated July 5, 2019; the environmental assessment was noticed, and the exemption became effective upon publication, in the Federal Register on July 10, 2019.

Maine Yankee originally requested the exemption following the discovery of a winter icing condition at its ISFSI that created an indeterminate coefficient of friction between the vertical concrete casks and the ISFSI pad surface. The NRC determined that a specific coefficient of friction was not necessary. The NRC's environmental assessment of this exemption is discussed in the Environmental Assessment section in this document.

B. Environmental Consideration

Categorical Exclusion

As stated previously, the exemption associated with the “Training Program” is categorically excluded from the requirements for an environmental review under NRC regulations. The requested exemption from the requirements of 10 CFR 72.212(a)(2), 72.212(b)(3), 72.212(b)(5)(i), 72.212(b)(11), and 72.214, regarding CoC No. 1015, Amendment No. 9, Appendix A, Section A.5.1., “Training Program,” involves allowing the licensee to limit its systematic approach to training program to the operation and maintenance of the NAC-UMS® System and not include the ISFSI. This requirement is unrelated to any operational restriction.

The NRC staff has determined that the granting of this exemption request involves no significant hazards consideration, per 10 CFR 51.22(c)(25)(i), because it does not (1) involve a significant increase in the probability or consequences of an accident previously evaluated; or (2) create the possibility of a new or different kind of accident from any accident previously evaluated; or (3) involve a significant reduction in a margin of safety. The NRC staff also determined there is no significant change in the types or significant increase in the amounts of any effluents that may be released offsite per 10 CFR 51.22(c)(25)(ii), and no significant increase in individual or cumulative public or occupational radiation exposure, per 10 CFR 51.22(c)(25)(iii). The exempted regulations are not associated with construction, so there is no significant construction impact, per 10 CFR 51.22(c)(25)(iv). The exempted regulations do not concern the source term (i.e., potential amount of radiation in an accident) nor mitigation. Thus, there is no significant increase in the potential for, or consequences from, a radiological accident, per 10 CFR 51.22(c)(25)(v). The exemption for the training program involves education, training, experience, qualification, requalification or other employment suitability requirements, per 10 CFR 51.22(c)(25)(vi)(E).

Therefore, the NRC's approval of the exemption from the requirements of 10 CFR 72.212(a)(2), 72.212(b)(3), 72.212(b)(5)(i), 72.212(b)(11), and 72.214, with regard to CoC No. 1015, Amendment No. 9, Appendix A, Section A.5.1., “Training Program,” is categorically excluded from further environmental review in accordance with 10 CFR 51.22(c)(25)(i-v) and (vi)(E). Pursuant to 10 CFR 51.22(b) and (c)(25), no environmental impact statement or environmental assessment need be prepared in connection with the approval of this exemption request.

Environmental Assessment

Identification of Proposed Action: The proposed action is the granting of three previously approved exemptions from the requirements of 10 CFR 72.212(a)(2), 72.212(b)(3), 72.212(b)(5)(i), 72.212(b)(11), and 72.214. These sections of the NRC regulations require compliance with the terms, conditions, and specifications of the NAC-UMS® System CoC No. 1015 for spent fuel storage at Maine Yankee's ISFSI. This action will allow Maine Yankee to apply the changes authorized by Amendment No. 9 to CoC No. 1015 to the casks at Maine Yankee's ISFSI. One of the three exemptions requested by Maine Yankee is categorically excluded from the requirement to conduct an environmental assessment, as discussed in the Categorical Exclusion section of this document, and is not further discussed in this section. This environmental assessment discussion focuses on the two remaining exemptions:

1. Appendix A, Section A.3.1.4, “Canister Maximum Time in Transfer Cask.” This exemption is from the requirement to comply with the 25-day requirement in Limiting Condition for Operation 3.1.4 for canister, NAC-UMS-TSC-790-016. This exemption was previously approved by the NRC by letter dated July 14, 2010, with the environmental assessment noticed in the Federal Register on June 15, 2010. This exemption was approved again by letter dated July 5, 2019; the environmental assessment was noticed, and the exemption became effective upon publication, in the Federal Register on July 10, 2019.

2. Appendix B, Section B.3.4.2.6. This exemption is from the requirement to maintain a coefficient of friction on the ISFSI pad surface of at least 0.5. This exemption was previously approved by the NRC by letter dated February 1, 2004, with the environmental assessment noticed in the Federal Register on January 30, 2004. The exemption was approved again by letter dated July 14, 2010, with the environmental assessment noticed in the Federal Register on June 15, 2010. This exemption was approved again by letter dated July 5, 2019; the environmental assessment was noticed, and the exemption became effective upon publication, in the Federal Register on July 10, 2019.

Need for Proposed Action: Maine Yankee has requested continuation of these exemptions so that it can register its casks to Amendment No. 9 to CoC No. 1015 for the NAC-UMS® System. Maine Yankee plans to adopt Amendment No. 9 to CoC No. 1015 as part of its work to adopt the renewed CoC No. 1015. The regulations in 10 CFR 72.212(b)(4) require the general licensee to register each cask with the NRC no later than 30 days after applying the changes authorized by an amended CoC.

Environmental Impacts of the Action: Amendment No. 9 to CoC No. 1015 has been previously evaluated by the NRC and its adoption by Maine Yankee presents no additional radiological environmental impacts. The two exemptions are related to sections in the technical specifications that were not revised as part of Amendment No. 9 to the CoC No. 1015 for the NAC-UMS® System. An environmental assessment for these two exemptions was conducted for the previous approvals, as previously noted, and is summarized as follows.

The requested exemption from Appendix A, Section A.3.1.4, “Canister Maximum Time in Transfer Cask” is an exemption from the requirement to comply with the 25-day requirement in Limiting Condition for Operation 3.1.4 for one canister, NAC-UMS-TSC-790-016. The affected storage canister had a heat load of 9.59kW, and was placed in a transfer cask for a total of 43 days between December 28, 2002, and February 18, 2003. At that time the Maine Yankee ISFSI operated under the provisions of CoC No. 1015, Amendment No. 2, and the Limiting Condition for Operation 3.1.4 time limit for a canister having a content decay heat load of less than or equal to 14kW was unlimited. During this period, the storage canister was in full compliance with CoC No. 1015, Amendment No. 2, and its stored spent fuel was maintained in a safe condition during the time the canister was in the transfer cask. The transfer of the loaded canister was completed in a safe manner to ensure the transfer cask was not used as a long-term storage device.

The requested exemption from Appendix B, Section B.3.4.2.6 is an exemption from the requirement to maintain a coefficient of friction on the ISFSI pad surface of at least 0.5. As discussed in the Federal Register notice published on January 30, 2004, Maine Yankee requested the exemption to address winter icing conditions that could result in a reduced coefficient of friction between the vertical concrete cask and the ISFSI pad surface, and limited vertical concrete cask sliding during a design-basis earthquake. The NRC previously reviewed the evaluations provided by Maine Yankee and found reasonable assurance that the design-basis earthquake will not result in significant sliding of the NAC-UMS® System vertical concrete casks. The NRC evaluated the magnitude of the impact load between two colliding vertical concrete casks and determined that the impact load would be far less severe than that encountered in a tip-over accident for which the NAC-UMS® System has been demonstrated to be structurally adequate. The NRC determined that not maintaining a coefficient of friction between the vertical concrete cask and the ISFSI pad surface of at least 0.5 is consistent with the safety analyses previously evaluated for the NAC-UMS® System, would have no impact on the design basis, and would have no impact on off-site doses. Therefore, the NRC concluded that the requested changes would not pose an increased risk to public health and safety.

The NRC evaluated the impact to public safety that would result from the proposed action and determined that approval of the exemptions would not increase the probability or consequences of accidents, no changes would be made to the types or amounts of effluents released offsite, and there would be no increase in occupational or public radiation exposure. Therefore, there are no significant radiological environmental impacts associated with the action. Additionally, the proposed action would not involve any construction or other ground disturbing activities, would not change the footprint of the existing ISFSI, and would have no other significant non-radiological impacts. The ISFSI is located on previously disturbed land, so it is unlikely to create any significant impact on aquatic or terrestrial habitat in the vicinity of the plant or to threatened, endangered, or protected species under the Endangered Species Act, or to essential fish habitat covered by the Magnuson-Stevens Act. Approval of the exemptions is not the type of activity that has the potential to cause effects on historic or cultural properties, assuming such properties are present at the site.

Alternative to the Proposed Action: The alternative to the proposed action would be to deny approval of the exemptions. This alternative would also have no significant environmental impact. Since there is no significant environmental impact associated with the proposed action, any alternatives with equal or greater environmental impact were not evaluated.

Given that there are no significant differences in environmental impact between the proposed action and the alternative considered, and that there are no changes in the conditions under which the exemptions were previously approved, the NRC concludes that the preferred alternative is to grant the exemptions.

Agencies and Persons Consulted

The NRC consulted with the Maine Department of Health and Human Services (State) on December 19, 2024, via email. The State responded by email dated January 22, 2025, in which it noted it had no comments.

Finding of No Significant Impact

The environmental impacts of the exemptions were previously reviewed and determined to have no significant environmental impact. There have been no changes to the conditions under which the previous review was approved. Based upon the foregoing discussion and the previous approvals, the NRC finds that the exemptions will not significantly impact the quality of the human environment. Accordingly, the NRC has determined that a FONSI is appropriate, and an environmental impact statement is not warranted.

IV. Availability of Documents

The documents identified in the following table are available to interested persons through one or more of the following methods, as indicated.

Document description | ADAMS Accession No. or Federal Register citation
NAC-UMS® System Certificate of Compliance No. 1015, effective November 20, 2000 | ML003762577 (Package).
NAC-UMS® System Certificate of Compliance No. 1015, Amendment No. 9, effective August 29, 2022 | ML22202A020 (Package).
Letter from D. Laing, Maine Yankee, dated March 28, 2024 | ML24094A060.
Email from S. Day, Maine Yankee, to K. Banovac, NRC, dated October 30, 2024 | ML24304B052.
NAC-UMS® System Certificate of Compliance No. 1015, Amendment No. 2, effective December 31, 2001 | ML020250546 (Package).
NAC-UMS® System Certificate of Compliance No. 1015, Amendment No. 3, effective March 31, 2004 | ML040830048 (Package).
Letter from J. Goshen, NRC, to J. Connell, Maine Yankee, dated July 14, 2010 | ML101960072.
Federal Register notice, “Maine Yankee Atomic Power Company; Independent Spent Fuel Storage Installation; Issuance of Environmental Assessment and Finding of No Significant Impact Regarding the Request for Exemption From Requirements of 10 CFR Part 72,” published June 15, 2010 | 75 FR 33853.
Letter from J. McKirgan, NRC, to J. Brown, Maine Yankee, dated July 5, 2019 | ML19184A056 (Package).
Federal Register notice, “Maine Yankee Atomic Power Company; Independent Spent Fuel Storage Installation,” published July 10, 2019 | 84 FR 32965.
Letter from L. Camper, NRC, to T. Williamson, Maine Yankee, dated January 4, 2005 | ML050050209 (Package).
Federal Register notice, “Maine Yankee Atomic Power Company, Maine Yankee Independent Spent Fuel Storage Installation, Issuance of Environmental Assessment and Finding of No Significant Impact,” published January 4, 2005 | 70 FR 396.
Letter from L. Camper, NRC, to T. Williamson, Maine Yankee, dated February 1, 2004 | ML040350797.
Federal Register notice, “Maine Yankee Atomic Power Company, Maine Yankee Independent Spent Fuel Storage Installation, Issuance of Environmental Assessment and Finding of No Significant Impact for a Proposed Exemption,” published January 30, 2004 | 69 FR 4543.
Email from K. Banovac, NRC, to J. Hyland, Maine Department of Health and Human Services, dated December 19, 2024 | ML25022A202.
Email from J. Hyland, Maine Department of Health and Human Services, to K. Banovac, NRC, dated January 22, 2025 | ML25022A201.

The NRC may post materials related to this document, including public comments, on the Federal rulemaking website at https://www.regulations.gov under Docket ID NRC-2024-0184. In addition, the Federal rulemaking website allows members of the public to receive alerts when changes or additions occur in a docket folder. To subscribe: (1) navigate to the docket folder (NRC-2024-0184); (2) click the “Subscribe” link; and (3) enter an email address and click on the “Subscribe” link.

V. Conclusion

Based on the previously mentioned considerations, the NRC has determined that, pursuant to 10 CFR 72.7, the exemptions are authorized by law, will not endanger life or property or the common defense and security, and are otherwise in the public interest. Therefore, the NRC grants Maine Yankee the exemptions from the requirements of 10 CFR 72.212(a)(2), 72.212(b)(3), 72.212(b)(5)(i), 72.212(b)(11), and 72.214.

These exemptions are effective upon publication.

Dated: January 31, 2025.
For the Nuclear Regulatory Commission.
Thomas Boyce,
Acting Chief, Storage and Transportation Licensing Branch, Division of Fuel Management, Office of Nuclear Material Safety and Safeguards.

[FR Doc. 2025-02253 Filed 2-4-25; 8:45 am]

BILLING CODE 7590-01-P